DEPARTMENT OF THE INTERIOR

National Park Service

[NPS-WASO-NAGPRA-15828; PPWOCRADN0-PCU00RP14.R50000]

Notice of Intent To Repatriate Cultural Items: U.S. Department of the Interior, Bureau of Land Management, Gila District Office, Tucson, AZ

AGENCY: National Park Service, Interior.

ACTION: Notice.

SUMMARY: The Bureau of Land Management (BLM), in consultation with the appropriate Indian tribes, has determined that the cultural items listed in this notice meet the definition of unassociated funerary objects. Lineal descendants or representatives of any Indian tribe not identified in this notice that wish to claim these cultural items should submit a written request to the BLM. If no additional claimants come forward, transfer of control of the cultural items to the lineal descendants or Indian tribes stated in this notice may proceed.

DATES: Lineal descendants or representatives of any Indian tribe not identified in this notice that wish to claim these cultural items should submit a written request with information in support of the claim to the BLM at the address in this notice by July 24, 2014.

ADDRESSES: Tim Shannon, District Manager, Bureau of Land Management, Gila District Office, 3201 East Universal Way, Tucson, AZ 85756, telephone (520) 258-7200, email tshannon@blm.gov.

SUPPLEMENTARY INFORMATION: Notice is here given in accordance with the Native American Graves Protection and Repatriation Act (NAGPRA), 25 U.S.C. 3005, of the intent to repatriate cultural items under the control of the BLM Gila District Office that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1983 and 1985, 169 objects were removed from site AZ U:15:109 (ASM) in Florence, Pinal County, AZ, in addition to human remains and associated funerary objects, during legally authorized salvage excavations of the site. A Notice of Inventory Completion was published in the Federal Register (65 FR 45399-45401, July 21, 2000) for the human remains and associated funerary objects from burials A through C of AZ U:15:109 (ASM). The human remains and associated funerary objects were repatriated to the Gila River Indian Community of the Gila River Indian Reservation, Arizona. The Gila River Indian Community of the Gila River Indian Reservation, Arizona, has requested repatriation of the 169 objects from site AZ U:15:109 (ASM) as unassociated funerary objects. The objects consist of 158 pottery sherds, 8 lithics, 1 large decorated sherd, and 2 reconstructed pottery jars.

Based on ceramics, site AZ U:15:109 (ASM) was identified as Hohokam. Continuities of ethnographic materials, technology, and architecture indicate affiliation of site AZ U:15:109 (ASM) with present-day Piman, O'odham and Puebloan cultures. Oral traditions presented by representatives of the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona; the Hopi Tribe of Arizona; and the Zuni Tribe of the Zuni Reservation, New Mexico, support affiliation with Hohokam and Salado sites in central Arizona.

Determinations Made By the Bureau of Land Management

Officials of the Bureau of Land Management have determined that:

• Pursuant to 25 U.S.C. 3001(3)(B), the 169 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Gila River Indian Community of the Gila River Indian Reservation, Arizona.

Additional Requestors and Disposition

Lineal descendants or representatives of any Indian tribe not identified in this notice that wish to claim these cultural items should submit a written request with information in support of the claim to Tim Shannon, District Manager, Bureau of Land Management, Gila District Office, 3201 East Universal Way, Tucson, AZ 85756, telephone (520) 258-7200, email tshannon@blm.gov, by July 24, 2014. After that date, if no additional claimants have come forward, transfer of control of the unassociated funerary objects to the Gila River Indian Community of the Gila River Indian Reservation, Arizona, may proceed.

The BLM is responsible for notifying the Gila River Indian Community of the Gila River Indian Reservation, Arizona, that this notice has been published.

Dated: May 15, 2014.
Sherry Hutt,
Manager, National NAGPRA Program.

[FR Doc. 2014-14744 Filed 6-23-14; 8:45 am]

BILLING CODE 4312-50-P